DEPARTMENT OF THE INTERIOR

Bureau of Land Management

[UT-046-1610-00]

Notice of Availability of Environmental Assessment (EA)/Finding of No Significant Impact (FONSI) for a Proposed Plan Amendment to the Vermilion Management Framework Plan (MFP)

AGENCY: Bureau of Land Management, Interior.

SUMMARY: The Bureau of Land Management (BLM), Utah, Kanab Field Office has completed an EA/FONSI for a proposed plan amendment to the Vermilion MFP, updating management of the Coral Pink Sand Dunes, Moquith Mountain, and surrounding area. The proposed plan amendment would: (1) Implement the Conservation Agreement and Strategy for the Coral Pink Sand Dunes Tiger Beetle; (2) implement updated scientific information for management of the threatened Welsh's milkweed; (3) implement off-highway vehicle (OHV) management in the area; (4) implement other recreation activities as directed by the Moquith Mountain WSA Management Guidance and Schedule; (5) provide guidance for development of additional recreation related facilities; (6) improve public safety; and (7) coordinate management of the area with the State of Utah, Coral Pink Sand Dunes State Park. The Coral Pink Sand Dunes and Moquith Mountain area is located in Kane County, Utah and consists of approximately 21,000 acres.

DATES: The 30 day protest period for the proposed plan amendment will commence with the publication of this notice. Protests must be received on or before May 15, 2000.

ADDRESSES: Protests must be addressed to the Director (W-210), Bureau of Land Management, Attn: Brenda Williams, 1849 C Street, NW, Washington, DC 20240 within 30 days after the date of publication of this Notice of Availability.

FOR FURTHER INFORMATION CONTACT: Verlin Smith, Field Manager, Bureau of Land Management, Kanab Field Office, at 318 North, First East, Kanab, Utah 84741 (telephone: 435-644-2672 ext. 2646) or Ronald Bolander, Bureau of Land Management, Utah State Office, 324 South State Street, PO Box 45155, Salt Lake City, Utah 84145-0155 (telephone: 801-539-4065). Copies of the proposed plan amendment/EA/FONSI are available for review at the BLM Kanab Field Office and BLM Utah State Office. In addition, copies are available for review at the State of Utah, Department of Natural Resources, 1594 West North Temple, Salt Lake City, Utah, 84114, contact person Jamie Dalton (telephone: 801-538-7311), and at the State of Utah, Department of Natural Resources, Division of Parks and Recreation, Southwest Region Office, 585 North Main, Cedar City, Utah 84721-1079 contact person Gordon W. Topham (telephone: 435-586-4497), or on the Internet at http://www.blm.gov/utah/.

SUPPLEMENTARY INFORMATION: This action is announced pursuant to section 202(a) of the Federal Land Policy Management Act (1976) and 43 CFR part 1610. This proposed amendment is subject to protests by any party who has participated in the planning process. Protests must be specific and contain the following information:

—The name, mailing address, phone number, and interest of the person filing the protest.

—A statement of the issue(s) being protested.

—A statement of the part(s) of the proposed amendment being protested and citing pages, paragraphs, maps, etc., of the proposed plan amendment.

—A copy of all documents addressing the issue(s) submitted by the protestor during the planning process or a reference to the date when the protester discussed the issue(s) for the record.

—A concise statement as to why the protester believes the proposed decision of the BLM State Director is incorrect.

Robert Bennett,
Acting State Director, Utah.

[FR Doc. 00-9189 Filed 4-12-00; 8:45 am]

BILLING CODE 4310-DQ-P